DEPARTMENT OF TRANSPORTATION

Federal Aviation Administration

14 CFR Part 39

[Docket No. 2002-NM-333-AD]

RIN 2120-AA64

Airworthiness Directives; McDonnell Douglas Model DC-9-14, DC-9-15, and DC-9-15F Airplanes; DC-9-20, DC-9-30, DC-9-40, DC-9-50 Series Airplanes; DC-9-81 (MD-81), DC-9-82 (MD-82), DC-9-83 (MD-83), and DC-9-87 (MD-87) Airplanes; and Model MD-88 Airplanes

AGENCY: Federal Aviation Administration, DOT.

ACTION: Notice of proposed rulemaking (NPRM).

SUMMARY: This document proposes the adoption of a new airworthiness directive (AD) that is applicable to certain McDonnell Douglas airplane models. This proposal would require an inspection of the retract cylinder support fitting and the cylinder bore of the support fitting of both main landing gear (MLG) for corrosion, and corrective action, if necessary. This proposal would also require replacing cadmium-plated retract cylinder support bushings and bearings of both MLG. This action is necessary to detect and correct corrosion to the retract cylinder support fitting of the MLG and the cylinder bore in the support fitting, which could result in compromised integrity of the retract cylinder support fitting of the MLG and possible damage to the hydraulic system. This action is intended to address the identified unsafe condition.

DATES: Comments must be received by June 25, 2004.

ADDRESSES: Submit comments in triplicate to the Federal Aviation Administration (FAA), Transport Airplane Directorate, ANM-114, Attention: Rules Docket No. 2002-NM-333-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-333-AD” in the subject line and need not be submitted in triplicate. Comments sent via the Internet as attached electronic files must be formatted in Microsoft Word 97 or 2000 or ASCII text.

The service information referenced in the proposed rule may be obtained from Boeing Commercial Airplanes, Long Beach Division, 3855 Lakewood Boulevard, Long Beach, California 90846, Attention: Data and Service Management, Dept. C1-L5A (D800-0024). This information may be examined at the FAA, Transport Airplane Directorate, 1601 Lind Avenue, SW., Renton, Washington; or at the FAA, Los Angeles Aircraft Certification Office, 3960 Paramount Boulevard, Lakewood, California.

FOR FURTHER INFORMATION CONTACT: Mike Lee, Aerospace Engineer, Airframe Branch, ANM-120L, FAA, Los Angeles Aircraft Certification Office, 3960 Paramount Boulevard, Lakewood, California 90712-4137; telephone (562) 627-5325; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-333-AD.” The postcard will be date stamped and returned to the commenter.

Availability of NPRMs

Any person may obtain a copy of this NPRM by submitting a request to the FAA, Transport Airplane Directorate, ANM-114, Attention: Rules Docket No. 2002-NM-333-AD, 1601 Lind Avenue, SW., Renton, Washington 98055-4056.

Discussion

The FAA has received a report indicating that on a Model MD-80 series airplane there was a failure of the retract cylinder support fitting of the main landing gear (MLG) during gear extension, damaging the hydraulic system. The cause of the failure was extensive corrosion damage to the retract cylinder support fitting of the MLG and the cylinder bore in the support fitting. This condition, if not detected and corrected, could result in compromised integrity of the retract cylinder support fitting of the MLG and possible damage to the hydraulic system.

Similar Models

The retract cylinder support fitting of the MLG on certain Model DC-9-14, DC-9-15, and DC-9-15F airplanes; and DC-9-20, DC-9-30, DC-9-40, DC-9-50 series airplanes are similar to those on the affected Model MD-80 series airplane. Therefore, all of these models may be subject to the same unsafe condition.

Explanation of Relevant Service Information

The FAA has reviewed and approved Boeing Service Bulletin DC9-57-222, dated September 18, 2002, which describes procedures for a general visual inspection of the retract cylinder support fitting and the cylinder bore of the support fitting of both MLG for corrosion, and corrective action as necessary; and replacing cadmium-plated retract cylinder support bushings and bearings of the MLG with bushings and bearings that do not have cadmium plating in the bore. The corrective actions include replacing the retract cylinder support fitting of the MLG with a fitting having a different part number; and repairing, reidentifying, and installing the retract cylinder support fitting of the MLG. Accomplishment of the actions specified in the service bulletin is intended to adequately address the identified unsafe condition.

Explanation of Requirements of Proposed Rule

Since an unsafe condition has been identified that is likely to exist or develop on other products of this same type design, the proposed AD would require accomplishment of the actions specified in the service bulletin described previously.

Clarification of Compliance Time

Operators should note that the service bulletin specifies a compliance time of “within 15,000 flight-hours after the issue date on this service bulletin on airplanes that have accumulated 30,000 or more flight-hours.” We have confirmed with the manufacturer that the actions must be accomplished on all affected airplanes within 30,000 flight hours or within a grace period of 15,000 flight hours after the issue date of the service bulletin, whichever occurs later. To clarify the compliance time, this proposed AD has a compliance time of “prior to the accumulation of 30,000 total flight hours, or within 15,000 flight hours after the effective date of the AD, whichever is later.”

Cost Impact

There are approximately 1,904 airplanes of the affected design in the worldwide fleet. The FAA estimates that 1,188 airplanes of U.S. registry would be affected by this proposed AD.

We estimate that it would take approximately 1 work hour per airplane to accomplish the proposed inspection on both MLG, and that the average labor rate is $65 per work hour. Based on these figures, the cost impact of the proposed inspection on U.S. operators is estimated to be $77,220, or $65 per airplane.

We estimate that it would take approximately between 28 and 42 work hours per airplane to accomplish the proposed replacement on both MLG, and that the average labor rate is $65 per work hour. Required parts would cost between approximately $18,732 per airplane and $27,066 per airplane. Based on these figures, the cost impact of the proposed replacement on U.S. operators is estimated to be between $24,415,776 and $35,397,648, or between $20,552 and $29,796 per airplane.

The cost impact figures discussed above are based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) Is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

McDonnell Douglas: Docket 2002-NM-333-AD.

Applicability: Model DC-9-14, DC-9-15, DC-9-15F, DC-9-21, DC-9-31, DC-9-32, DC-9-32 (VC-9C), DC-9-32F, DC-9-33F, DC-9-34, DC-9-34F, DC-9-32F (C-9A, C-9B), DC-9-41, DC-9-51, DC-9-81 (MD-81), DC-9-82 (MD-82), DC-9-83 (MD-83), and DC-9-87 (MD-87) airplanes; and Model MD-88 airplanes; as listed in Boeing Service Bulletin DC9-57-222, dated September 18, 2002; certificated in any category.

Compliance: Required as indicated, unless accomplished previously.

To detect and correct corrosion to the retract cylinder support fitting of the main landing gear (MLG) and the cylinder bore in the support fitting, which could result in compromised integrity of the retract cylinder support fitting of the MLG and possible damage to the hydraulic system, accomplish the following:

Inspection and Replacement

(a) Prior to the accumulation of 30,000 total flight hours, or within 15,000 flight hours after the effective date of the AD, whichever is later, do the actions in paragraphs (a)(1) and (a)(2) of this AD in accordance with the Accomplishment Instructions of Boeing Service Bulletin DC9-57-222, dated September 18, 2002.

(1) Do the inspection specified in paragraph (a)(1)(i) or (a)(1)(ii) of this AD, as applicable. Before further flight following the inspection, accomplish all applicable corrective actions specified in the Accomplishment Instructions of Boeing Service Bulletin DC9-57-222, dated September 18, 2002. Do the actions in accordance with the service bulletin.

(i) For Group 1 airplanes specified in paragraph 1.A.1. of the service bulletin, do a general visual inspection of the retract cylinder support fitting and the cylinder bore of the support fitting of both MLG for corrosion.

(ii) For Group 2 airplanes specified in paragraph 1.A.1. of the service bulletin, do a general visual inspection of the retract cylinder support fitting of both MLG for corrosion.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

(2) Replace cadmium-plated retract cylinder support bushings and bearings of the MLG with bushings and bearings that do not have cadmium plating in the bore.

Parts Installation

(b) As of the effective date of this AD, no person shall install a retract cylinder support fitting for the MLG, part number (P/N) 3935860-1, 3912891-1, or 3912891-501 on any airplane, unless it has been found to have no corrosion during the inspection required by paragraph (a) of this AD, or unless it has been modified in accordance with the service bulletin.

Alternative Methods of Compliance

(c) In accordance with 14 CFR 39.19, the Manager, Los Angeles Aircraft Certification Office, FAA, is authorized to approve alternative methods of compliance for this AD.

Issued in Renton, Washington, on April 29, 2004.
Kevin M. Mullin,
Acting Manager, Transport Airplane Directorate, Aircraft Certification Service.

[FR Doc. 04-10696 Filed 5-10-04; 8:45 am]

BILLING CODE 4910-13-P